DEPARTMENT OF TRANSPORTATION

Federal Aviation Administration

Notice of Opportunity for Public Comment on Surplus Property Release at Georgetown County Airport, Georgetown, SC

AGENCY: Federal Aviation Administration (FAA), DOT.

ACTION: Notice.

SUMMARY: Under the provisions of Title 49, U.S.C. 47153(c), notice is being given that the FAA is considering a request from the Georgetown County Airport Commission to waive the requirement that a 12.43—acre parcel of surplus property, located at the Georgetown County Airport, be used for aeronautical purposes.

DATES: Comments must be received on or before November 1, 2001.

ADDRESSES: Comments on this notice may be mailed or delivered in triplicate to the FAA at the following address: Atlanta Airports District Office, Attn: Anthony L. Cochran, Program Manager, 1701 Columbia Ave., Suite 2-260, Atlanta, GA 30337-2747.

In addition, one copy of any comments submitted to the FAA must be mailed or delivered to A.J. Rigby, Chairman of the Georgetown County Airport Commission at the following address: 302 Sundial Drive, PO Box 3757, Pawley's Island, SC 29585

FOR FURTHER INFORMATION CONTACT: Anthony Cochran, Program Manager, Atlanta Airports District Office, 1701 Columbia Ave., Suite 2-260, Atlanta, GA 30337-2747, (404) 305-7144. The application may be reviewed in person at this same location.

SUPPLEMENTARY INFORMATION: The FAA is reviewing a request by the Georgetown County Airport Commission to release 12.43 acres of surplus property at the Georgetown County Airport. The property will be purchased by Marhaygue, LLC and used to expand an existing adjacent manufacturing plant. The net proceeds from the sale of this property will be used for airport purposes. The proposed use of this property is compatible with airport operations.

Any person may inspect the request in person at the FAA office listed above under FOR FURTHER INFORMATION CONTACT. In addition, any person may, upon request, inspect the request, notice and other documents germane to the request in person at the Georgetown County Airport Commission.

Issued in Atlanta, Georgia on September 20, 2001.
Scott L. Seritt,
Manager, Atlanta Airports District Office, Southern Region.

[FR Doc. 01-24612 Filed 10-1-01; 8:45 am]

BILLING CODE 4910-13-M